INTERNATIONAL TRADE COMMISSION

[Investigation No. 337-TA-670]

In the Matter of Certain Adjustable Keyboard Support Systems and Components Thereof; Notice of Commission Determination of No Violation of Section 337; Termination of the Investigation

AGENCY: U.S. International Trade Commission.

ACTION: Notice.

SUMMARY: Notice is hereby given that the U.S. International Trade Commission has determined that there is no violation of 19 U.S.C. 1337 by respondents in the above-referenced investigation. The investigation is terminated.

FOR FURTHER INFORMATION CONTACT: Jia Chen, Office of the General Counsel, U.S. International Trade Commission, 500 E Street, SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 13, 2009 based on a complaint filed by Humanscale Corporation (“Humanscale”) of New York, New York. 74 FR 10963 (Mar. 13, 2009). The complaint, as amended, named CompX International, Inc., of Dallas, Texas and Waterloo Furniture Components Limited, of Ontario, Canada (collectively, “CompX”) as respondents. The complaint alleged violations of section 337 of the Tariff Act of 1930 (19 U.S.C. 1337) in the importation into the United States, the sale for importation, and the sale within the United States after importation of certain adjustable keyboard support systems and components thereof that infringe certain claims of U.S. Patent No. 5,292,097 (“the ’097 patent”).

On February 23, 2010, the ALJ issued a final ID, including his recommended determination on remedy and bonding. In his ID, the ALJ found that CompX's “Wedge-Brake” products do not infringe either claims 7 or 34. The ALJ found that CompX's “Brake-Shoe” products, on the other hand, do infringe claims 7 and 34, but that respondents established that claim 7 is invalid because it is obvious under 35 U.S.C. 103. The ALJ further found that respondents have not established the defense of intervening rights. Finally, the ALJ found that complainant proved the existence of a domestic industry in the United States. Accordingly, the ALJ recommended that the Commission issue a limited exclusion order barring entry into the United States of infringing adjustable keyboard support systems and components thereof. The ALJ further recommended the issuance of a cease and desist order against respondent Waterloo Furniture Components Ltd.

On March 9, 2010, Humanscale, CompX, and the Commission investigative attorney (“IA”) each filed a petition for review of the ALJ's final ID. On April 26, 2010, the Commission determined to review a portion of the ALJ's ID and requested briefing from the parties on the issues under review and on remedy, the public interest, and bonding. On May 17, 2010, Humanscale, CompX, and the IA each filed responses to the Commission's request for written submissions. On May 27, 2010, Humanscale, CompX and the IA filed reply submissions. On June 14, 2010, CompX filed a surreply to Humanscale's reply submission.

Having examined the record of this investigation, including the ALJ's ID and the submissions of the parties, the Commission has determined to reverse the ALJ's determination that the respondents violated section 337. The Commission finds the asserted claims are not infringed and are invalid.

The authority for the Commission's determination is contained in section 337 of the Tariff Act of 1930, as amended (19 U.S.C. 1337), and in section 210.45 of the Commission's Rules of Practice and Procedure (19 CFR 210.45).

By order of the Commission.
Issued: July 9, 2010.
Marilyn R. Abbott,
Secretary to the Commission.

[FR Doc. 2010-17297 Filed 7-14-10; 8:45 am]

BILLING CODE 7020-02-P